DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before June 12, 2023.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on May 5, 2023.
Donald P. Burger,
Chief, General Approvals and Permits Branch.

Special Permits Data
Application No. | Applicant | Regulation(s) affected | Nature of the special permits thereof
7835-M | Versum Materials US, LLC | 172.301(c), 177.848(d) | To modify the special permit to authorize DOT-SP 15267 packagings. (mode 1).
9232-M | Department of Defense U.S. Army Military Surface Deployment & Distribution Command | 172.1, 175.1 | To modify the special permit to remove paragraph 7.c.(10). (modes 4, 5).
11379-M | ZF Passive Safety Systems US Inc | 173.302(a)(1), 173.301(a) | To modify the special permit to authorize reduced frequency of cylinder burst testing. (modes 1, 2, 3, 4, 5).
15343-M | Desert Air Transport, Inc | 172.101(j), 173.242 | To modify the special permit to authorize an additional packaging (mode 4).
15642-M | Linde Gas & Equipment Inc | 172.203(a), 180.205(c), 180.209(a), 180.209(b), 180.209(b)(1)(iv) | To modify the special permit to extend the initial periodic requalification period of DOT 3AL and DOT-SP 12440 cylinders from 5 years to 10 years and to authorize certain newly manufactured DOT 3AL cylinders to be used in dedicated dry-gas service. (modes 1, 2, 3, 4, 5).
16279-M | Stericycle, Inc | 173.196(a) | To modify the special permit to authorize the transportation in commerce of the Marburg virus. (modes 1, 3).
20251-M | Salco Products Inc | 172.203(a), 178.345-1, 180.413 | To modify the special permit to authorize additional manway configurations. (mode 1).
21360-M | ABG Bag, Inc | 173.12(b)(2)(ii)(C), 178.707(d) | To modify the special permit to authorize Division 5.2 hazardous materials. (mode 1).
21460-M | Amerex Corporation | 173.309(c), 172.203(a), 172.301(c) | To modify the special permit to remove the requirement that the special permit be provided to the air carrier and to authorize a copy of the special permit to be accessible electronically through a QR code directly applied to each extinguisher in lieu of having a paper copy of the special permit be maintained at each facility where the extinguishers are offered or reoffered. (modes 1, 2, 3, 4, 5).

[FR Doc. 2023-11301 Filed 5-25-23; 8:45 am]

BILLING CODE P